ENVIRONMENTAL PROTECTION AGENCY

[ER-FRL-8986-6]

Environmental Impact Statements; Notice of Availability

Responsible Agency: Office of Federal Activities, General Information (202) 564-1399 or http://www.epa.gov/compliance/nepa/.

Weekly receipt of Environmental Impact Statements

Filed 12/07/2009 Through 12/11/2009

Pursuant to 40 CFR 1506.9.

Notice:

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20090428, Final EIS, NOAA, AK, Bering Sea Chinook Salmon Bycatch Management, Establish New Measures to Minimize Chinook Salmon Bycatch, To Amend the Fishery Management Plan, Implementation, Bering Sea Pollock Fishery, AK, Wait Period Ends: 02/16/2010, Contact: Gretchen Harrington 907-586-7228.

EIS No. 20090429, Draft EIS, BR, ID, Minidoka Dam Spillway Replacement Project, To Prevent Structural Failure of the Minidoka Dam Spillway and Canal Headworks, Lake Walcott, Minidoka County, ID, Comment Period Ends: 02/05/2010, Contact: Allyn Meuleman 208-383-2258.

EIS No. 20090430, Final EIS, USFS, 00, Selway-Bitterroot Wilderness Plants Management Project, To Prevent the Establishment of New Invaders and Reduce the Impacts of Established Invasive Plants on Native Plant Community Stability, Sustainability and Diversity, Nez Perce, Clearwater, Lolo, and Bitterroot National Forests, ID and MT, Wait Period Ends: 02/01/2010, Contact: Chad Benson 208-942-3113.

EIS No. 20090431, Final EIS, FHWA, MO, East Columbia Transportation Project, To Improve the Transportation Network in Eastern Columbia/Boone County by: (1) Extending Route 740 from its Terminus at U.S.-63, along a new Alignment, to I-70 at the existing St. Charles road interchange, (2) Improving existing Broadway (Route WW) to Olivet Road, and (3) Extending Ballenger Lane, from Future Route 740 to Clark Lane, City of Columbia, Boone County, MO, Wait Period Ends: 01/19/2010, Contact: Peggy Casey 593-636-7104.

EIS No. 20090432, Draft EIS, NPS, DC, National Mall Plan, To Prepare a Long-Term Plan that will Restore National Mall, Implementation, Washington, DC, Comment Period Ends: 03/17/2010, Contact: Susan Spain 202-245-4692.

EIS No. 20090433, Final EIS, USFS, CA, Lassen National Forest, Motorized Travel Management Plan, Implementation, Butte, Lassen, Modoc, Plumas, Shasta, Siskiyou, Tehama Counties, CA, Wait Period Ends: 01/19/2010, Contact: Christopher O'Brien 520-252-6698.

EIS No. 20090434, Draft EIS, FTA, UT, Draper Transit Corridor Project, To Improve Transportation Mobility and Connectivity for Residents and Commuters in the Project Study Area, Salt Lake County, UT, Comment Period Ends: 02/05/2010, Contact: Kristin Kenyon 720-963-3300.

EIS No. 20090435, Draft EIS, APHIS, 00, Glyphosate-Tolerant Alfalfa Events J101 and J163: Request for Nonregulated Status, Implementation, United States, Comment Period Ends: 02/16/2010, Contact: Cindy Eck 202-720-2600.

EIS No. 20090436, Draft EIS, USFS, OR, Canyon Fuels and Vegetation Management Project, Proposed Fuels and Vegetation Treatment to Reduce the Risk of Stand Loss Due to Overly Dense Stand Conditions, Lookout Mountain Ranger District, Ochoco National Forest, Crook County, OR, Comment Period Ends: 02/01/2010, Contact: Marcy Anderson 541-416-6463.

EIS No. 20090437, Final EIS, USACE, NC, Western Wake Regional Wastewater Management Facilities, Proposed Construction of Regional Wastewater Pumping, Conveyance, Treatment, and Discharge Facilities to Serve the Towns of Apex, Cary, Holly Springs and Morrisville, Research Triangle Park, Wake County, NC, Wait Period Ends: 01/19/2010, Contact: Henry Wicker 910-251-4930.

Amended Notices

EIS No. 20090365, Draft EIS, USACE, CO, Moffat Collection System Project, to Provide High Quality Dependable, and Safe Drinking Water to Over 1.1 Million Customers in the City and County of Denver, Application for an Section 404 Permit, City and County Denver, Adams, Boulder, Jefferson and Grand Counties, CO, Comment Period Ends: 03/01/2010, Contact: Scott Franklin 303-979-4120, Revision to FR Notice Published 10/30/2009: Extending Comment Period from 01/28/2010 to 03/01/2010.

EIS No. 20090406, Final EIS, USFS, CA, Modoc National Forest Motorized Travel Management Plan, Implementation, National Forest Transportation System (NFTS), Modoc, Lassen and Siskiyou Counties, CA, Wait Period Ends: 02/01/2010, Contact: Kathleen Borovac 530-233-8754. Revisions to FR Notice 12/04/2009: Extending Comment Period from 01/04/2010 to 02/01/2010.

EIS No. 20090413, Final EIS, USFS, NV, Martin Basin Rangeland Project, Reauthorizing Grazing on Eight Existing Cattle and Horse Allotments: Bradshaw, Buffalo, Buttermilk, Granite Peak, Indian, Martin Basin, Rebel Creek, and West Side Flat Creek, Santa Rosa Ranger District, Humboldt-Toiyabe National Forest, NV, Wait Period Ends: 01/11/2010, Contact: Vernon Keller 775-355-5356. Revision to FR Notice 12/11/2009: Correction to Contact Person Phone Number from 775-355-5056 to 775-355-5356.

EIS No. 20090415, Final EIS, FHWA, MI, Detroit Intermodal Freight Terminal (DIFT) Project, Proposes Improvement to Intermodal Freight Terminals in Wayne and Oakland Counties, MI, Wait Period Ends: 01/29/2010, Contact: David T. Williams 517-702-1820. Revision to FR Notice Published 12/11/2009: Extending Comment Period from 01/11/2010 to 01/29/2010.

EIS No. 20090421, Draft EIS, NRC, WY, Moore Ranch In-Situ Uranium Recovery (ISR) Project, Proposal to Construct, Operate, Conduct Aquifer Restoration, and Decommission an In-Situ Recovery (ISR) Facility, NUREG-1910, Campbell County, WY, Comment Period Ends: 02/01/2010, Contact: Behram Shroff 301-415-0666. Revision to FR Notice Published 12/11/2009: Correction to Document Type from Draft Supplement to Draft.

EIS No. 20090423, Draft EIS, NRC, WY, Nichols Ranch In-Situ Uranium Recovery (ISR) Project, Proposal to Construct, Operate, Conduct Aquifer Restoration, and Decommission an In-Situ Recovery Uranium Milling Facility, Campbell and Johnson Counties, WY, Comment Period Ends: 02/01/2010, Contact: Irene Yu 301-415-1951. Revision to FR Notice Published 12/11/2009: Correction to Document Type from Draft Supplement to Draft.

EIS No. 20090425, Draft EIS, NRC, WY, Lost Creek In-Situ Uranium Recovery (ISR) Project, Proposal to Construct, Operate, Conduct Aquifer Restoration, and Decommission an In-Situ Recovery (ISR) Uranium Milling Facility, Sweetwater County, WY, Comment Period Ends: 02/01/2010, Contact: Alan B. Bjornsen 301-415-1195. Revision to FR Published 12/11/2009: Correction to Document Type Draft Supplement to Draft.

Dated: December 15, 2009.
Ken Mittelholtz,
Deputy Director, NEPA Compliance Division, Office of Federal Activities.

[FR Doc. E9-30124 Filed 12-17-09; 8:45 am]

BILLING CODE 6560-50-P